DEPARTMENT OF JUSTICE

Office of Justice Programs

[OJP (OJJDP) Docket No. 1731]

Webinar Meeting of the Federal Advisory Committee on Juvenile Justice

AGENCY: Office of Juvenile Justice and Delinquency Prevention, Justice.

ACTION: Notice of webinar meeting.

SUMMARY: The Office of Juvenile Justice and Delinquency Prevention (OJJDP) has scheduled a webinar meeting of the Federal Advisory Committee on Juvenile Justice (FACJJ).

Dates and Location: The webinar meeting will take place online on Thursday, January 12, 2017 at 2:00p.m.-5:00p.m. ET.

FOR FURTHER INFORMATION CONTACT: Jeff Slowikowski, Designated Federal Official, OJJDP, Jeff.Slowikowski@usdoj.gov or (202) 616-3646. [This is not a toll-free number.]

SUPPLEMENTARY INFORMATION: The Federal Advisory Committee on Juvenile Justice (FACJJ), established pursuant to Section 3(2)A of the Federal Advisory Committee Act (5 U.S.C. App. 2), will meet to carry out its advisory functions under Section 223(f)(2)(C-E) of the Juvenile Justice and Delinquency Prevention Act of 2002. The FACJJ is composed of representatives from the states and territories. FACJJ member duties include: Reviewing Federal policies regarding juvenile justice and delinquency prevention; advising the OJJDP Administrator with respect to particular functions and aspects of OJJDP; and advising the President and Congress with regard to State perspectives on the operation of OJJDP and Federal legislation pertaining to juvenile justice and delinquency prevention. More information on the FACJJ may be found at www.facjj.org.

Meeting Agenda: The proposed agenda includes: (a) Opening Introductions, and Webinar Logistics; (b) Remarks of Robert L. Listenbee, Administrator, OJJDP; (c) FACJJ Subcommittee Reports (Legislation/Policy; Confidentiality of Records; Research/Publications; LGBT; Transitioning Youth); (d) FACJJ Administrative Business; and (e) Summary, Next Steps, and Meeting Adjournment.

To participate in or view the webinar meeting, FACJJ members and the public must pre-register online. Members and interested persons must link to the webinar registration portal through www.facjj.org, no later than Thursday, January 5, 2017. Upon registration, information will be sent to you at the email address you provide to enable you to connect to the webinar. Should problems arise with webinar registration, please call Callie Long Murray at 571-308-6617. [This is not a toll-free telephone number.] Note: Members of the public will be able to listen to and view the webinar as observers, but will not be able to participate actively in the webinar.

An on-site room is available for members of the public interested in viewing the webinar in person. If members of the public wish to view the webinar in person, they must notify Melissa Kanaya by email message at Melissa.Kanaya@usdoj.gov no later than Thursday, January 5, 2017.

FACJJ members will not be physically present in Washington, DC for the webinar. They will participate in the webinar from their respective home jurisdictions.

Written Comments: Interested parties may submit written comments by email message in advance of the webinar to Jeff Slowikowski, Designated Federal Official, at Jeff.Slowikowski@usdoj.gov, no later than Thursday, January 5, 2017. In the alternative, interested parties may fax comments to 202-307-2819 and contact Melissa Kanaya at 202-532-0121 to ensure that they are received. [These are not toll-free numbers.]

Robert L. Listenbee,
Administrator, Office of Juvenile Justice and Delinquency Prevention.

[FR Doc. 2016-29953 Filed 12-13-16; 8:45 am]

BILLING CODE 4410-18-P